FEDERAL COMMUNICATIONS COMMISSION

Notice of Public Information Collection(s) Being Reviewed by the Federal Communications Commission for Extension Under Delegated Authority, Comments Requested

July 13, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments September 15, 2009. If you anticipate that you will be submitting comments, but find it difficult to do so within the period of time allowed by this notice, you should advise the contact listed below as soon as possible.

ADDRESSES: Direct all PRA comments to Nicholas A. Fraser, Office of Management and Budget (OMB), via fax at 202-395-5167, or via the Internet at Nicholas_A._Fraser@omb.eop.gov and to Judith-B.Herman@fcc.gov, Federal Communications Commission (FCC). To submit your comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith B. Herman at 202-418-0214.

SUPPLEMENTARY INFORMATION: OMB Control Number: 3060-0681.

Title: Sections 52.101 through 52.110, Toll-Free Service Access Codes, CC Docket No. 95-155, 47 CFR Part 52, Subpart D).

Form No.: N/A.

Type of Review: Extension of a currently approved collection.

Respondents: Business or other for-profit and not-for-profit institutions.

Number of Respondents: 300 respondents; 300 responses.

Estimated Time Per Response: 15 hours.

Frequency of Response: On occasion reporting requirement and third party disclosure requirement.

Obligation to Respond: Required to obtain or retain benefits. Statutory authority for this information collection are contained in 47 U.S.C. 151, 154, 201-205, 218, 220 and 405 and 5 U.S.C. Sections 552 and 553.

Total Annual Burden: 4,500 hours.

Total Annual Cost: N/A.

Privacy Act Impact Assessment: N/A.

Nature and Extent of Confidentiality: Information of a proprietary nature submitted to Database Services Management, Inc. (DSMI) will not be disclosed, pursuant to DSMI's policy. The Commission, however, is granted access to information pertinent to determining that RespOrgs are abiding by Commission rules. The Commission is not requesting that the respondents submit confidential information to the FCC. Respondents may, however, request confidential treatment for information they believe to be confidential under 47 CFR 0.459 of the Commission's rules.

Needs and Uses: The Commission will submit this information collection to the Office of Management and Budget (OMB) after this 60 day comment period in order to obtain the full three year clearance from them. The Commission is requesting an extension (no change in the reporting and/or third party disclosure requirements) of this information collection. There is no change to the estimated number of respondents/responses and annual burden hours. This information collection requires RespOrgs requesting that specific toll free numbers be placed in unavailable status to submit written requests, with appropriate documentation, to the toll free database administrator, Database Services Management, Inc. (DSMI). This requirement will hold those RespOrgs more accountable and will decrease abuses of lag time process. It will also prevent numbers from being held in an unavailable status without demonstrated reasons, and will make more numbers available for subscribers who need and want them. If DSMI is uncertain whether a number should be placed in unavailable status, it should seek guidance from the Commission's Wireline Competition Bureau.

Current industry guidelines already require that RespOrgs requesting to place a toll free number in unavailable status submit written requests to DSMI with appropriate documentation. This collection requirement simply codifies the existing industry guidelines. DSMI (and, if necessary the FCC), will continue to use the information collected to determine if a particular toll free number appropriately can be placed in “unavailable” status. This will prevent the fraudulent use of toll free numbers.

Federal Communications Commission.
Marlene H. Dortch,
Secretary.

[FR Doc. E9-17043 Filed 7-16-09; 8:45 am]

BILLING CODE 6712-01-P